DEPARTMENT OF ENERGY

Federal Energy Regulatory Commission

Combined Notice of Filings

Take notice that the Commission has received the following Natural Gas Pipeline Rate and Refund Report filings:

Filings Instituting Proceedings

Docket Numbers: PR14-6-000.

Applicants: Columbia Gas of Maryland, Inc.

Description: Tariff filing per 284.123(b)(1)/.: Revised Statement of Operating Conditions to be effective 10/9/2013.

Filed Date: 11/8/13.

Accession Number: 20131108-5128.

Comments Due: 5 p.m. ET 11/29/13.

Docket Numbers: RP14-162-000.

Applicants: Questar Pipeline Company.

Description: Sec. 5.1 Request for No-notice Service to be effective 12/14/2013.

Filed Date: 11/13/13.

Accession Number: 20131113-5030.

Comments Due: 5 p.m. ET 11/25/13.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-102-001.

Applicants: Gulf South Pipeline Company, LP.

Description: Correction to tariff record in Docket No. RP14-102 to be effective 11/1/2013.

Filed Date: 11/12/13.

Accession Number: 20131112-5153.

Comments Due: 5 p.m. ET 11/25/13.

Docket Numbers: RP14-102-002.

Applicants: Gulf South Pipeline Company, LP.

Description: Correction #2 to tariff record in RP14-102 to be effective 11/1/2013.

Filed Date: 11/13/13.

Accession Number: 20131113-5031.

Comments Due: 5 p.m. ET 11/25/13.

Docket Numbers: RP14-103-001.

Applicants: Gulf South Pipeline Company, LP.

Description: Correction to tariff record in RP14-103 to be effective 11/1/2013.

Filed Date: 11/13/13.

Accession Number: 20131113-5032.

Comments Due: 5 p.m. ET 11/25/13.

Docket Numbers: RP14-107-001.

Applicants: Gulf South Pipeline Company, LP.

Description: Gulf South Pipeline Company, LP submits tariff filing per 154.205(b): Correction to tariff record in RP14-107 to be effective 11/1/2013.

Filed Date: 11/13/13.

Accession Number: 20131113-5037.

Comments Due: 5 p.m. ET 11/25/13.

Docket Numbers: RP14-97-001.

Applicants: Gulf South Pipeline Company, LP.

Description: Correction to tariff records in Docket No. RP14-97-000 to be effective 11/1/2013.

Filed Date: 11/12/13.

Accession Number: 20131112-5152.

Comments Due: 5 p.m. ET 11/25/13.

Docket Numbers: RP14-97-002.

Applicants: Gulf South Pipeline Company, LP.

Description: Correction #2 to tariff records in Docket No. RP14-97-000 to be effective 11/1/2013.

Filed Date: 11/13/13.

Accession Number: 20131113-5028.

Comments Due: 5 p.m. ET 11/25/13.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 13, 2013.
Nathaniel J. Davis, Sr.,
Deputy Secretary.

[FR Doc. 2013-28050 Filed 11-21-13; 8:45 am]

BILLING CODE 6717-01-P